DEPARTMENT OF HEALTH AND HUMAN SERVICES

Administration for Children and Families

[CFDA Number: 93.676]

Announcement of the Intent To Award Single-Source Awards for Long Term Foster Care

AGENCY: Office of Refugee Resettlement (ORR), Administration for Children and Families (ACF), Department of Health and Human Services (HHS).

ACTION: Notice of Issuance of Single-Source Awards.

SUMMARY: ACF, ORR announces the intent to award five single-source awards in the amount of $9,118,248, in multiple states across the country, for Long Term Foster Care (LTFC) services for Unaccompanied Children. ORR proposes to have the recipient conduct the following activities: provide additional capacity for long term placement services. The action is needed because ORR has a pending list with over 300 minors on it who need LTFC placement due to the unanticipated influx of unaccompanied children at the southwestern border in 2021 and the unforeseen arrival of Unaccompanied Afghan Minors (UAM) over the past year.

DATES: The proposed period of performance is October 1, 2022, through April 30, 2023.

FOR FURTHER INFORMATION CONTACT: Laura Kiesler, Director, Division of Unaccompanied Alien Children Operations, 330 C Street SW, Washington, DC 20447. Phone: 202-893-5037. Email: laura.kiesler@acf.hhs.gov.

SUPPLEMENTARY INFORMATION: ORR is continuously monitoring its capacity to shelter the unaccompanied children referred to LTFC services, as well as the information received from interagency partners to inform any future decisions or actions.

ORR has specific requirements for the provision of services. Award recipients must have the infrastructure, licensing, experience, and appropriate level of trained staff to meet those requirements.

ORR announces the intent to award the following single-source awards:

Recipient name | City & state | Proposed period of support budget (10/1/22-4/30/23)
Lutheran Immigration and Refugee Services | Moreno Valley, CA, Newport News, VA, & York, PA | $1,653,049
Bethany Christian Services | Fresno and Modesto, CA & Grand Rapids, MI | 3,958,841
Building Bridges Foster Family Agency | Southern CA | 974,839
New Life Foster Family Agency | Colton, CA | 1,465,532
Board of Child Care | Nicholasville and Owensboro, KY & Redford Charter TWP, MI | 1,065,987
Total of Awards |  | 9,118,248

Statutory Authority: This program is authorized by:

(A) Section 462 of the Homeland Security Act of 2002, which in March 2003, transferred responsibility for the care and custody of unaccompanied alien children from the Commissioner of the former Immigration and Naturalization Service to the Director of ORR within HHS.

(B) The Flores Settlement Agreement, Case No. CV85-4544RJK (C. D. Cal. 1996), as well as the William Wilberforce Trafficking Victims Protection Reauthorization Act of 2008 (Pub. L. 110-457), which authorizes post release services under certain conditions to eligible children. All programs must comply with the Flores Settlement Agreement, Case No. CV85-4544-RJK (C.D. Cal. 1996); pertinent regulations; and ORR policies and procedures.

(C) The Afghanistan Supplemental Appropriations Act, 2022, and Additional Afghanistan Supplemental Appropriation Act, 2022, designated funding for citizens and nationals of Afghanistan including UAM (Pub. L. 117-43 and Pub. L. 117-70). This funding is available to the Unaccompanied Children Program and is utilized by ORR to support the care and custody of UAM.

Elizabeth A. Leo,
Senior Grants Policy Specialist, Office of Grants Policy, Office of Administration.

[FR Doc. 2022-23960 Filed 11-2-22; 8:45 am]

BILLING CODE 4184-45-P